DEPARTMENT OF ENERGY

Federal Energy Regulatory Commission

[Docket No. RP01-136-000]

Florida Gas Transmission Company; Notice of Proposed Changes in FERC Gas Tariff

December 5, 2000.

Take notice that on November 30, 2000, Florida Gas Transmission Company (FGT) tendered for filing as part of its FERC Gas Tariff, Third Revised Volume No. 1, the following tariff sheets, with an effective date of January 1, 2001:

Forty-Fifth Revised Sheet No. 8A

Thirty-Seventh Revised Sheet No. 8A.01

Thirty-Seventh Revised Sheet No. 8A.02

Forty-First Revised Sheet No. 8B

Thirty-Fourth Revised Sheet No. 8B.01

FGT states that it is filing the above referenced tariff sheets pursuant to the January 21, 1998, Stipulation and Agreement Concerning GRI Funding (GRI Settlement) as approved by the Federal Energy Regulatory Commission Order issued April 29, 1998 in Docket No. RP97-199-003. For the year of 2001, the funding mechanism includes the approved GRI demand charges of 9 cents per MMBtu per month (.30¢ per MMBtu stated on a daily basis underlying FGT's reservation charges) to be applicable to firm shippers with load factors exceeding 50%, 5.5 cents per MMBtu per month (.18¢ per MMBtu stated on a daily basis underlying FGT's reservation charges) to be applicable to firm shippers with load factors of 50% or less and a volumetric charge of 0.70 cents per MMBtu to be applicable to all non-discounted interruptible rates and to the usage portion of two-part rates. In addition, the 2001 funding mechanism includes a volumetric charge of 1.10 cents per MMBtu to be applicable to all one-part small customer rates. This funding mechanism provides for a decrease in GRI charges as compared to the currently effective 2000 GRI charges.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31415 Filed 12-8-00; 8:45 am]

BILLING CODE 6717-01-M